DEPARTMENT OF THE INTERIOR

Bureau of Indian Affairs

Final Environmental Impact Statement for the Proposed Fee-to-Trust Conveyance of Property for the Cayuga Nation of New York in Cayuga and Seneca Counties, NY

AGENCY: Bureau of Indian Affairs, Interior.

ACTION: Notice of Availability.

SUMMARY: This notice advises the public that the Bureau of Indian Affairs (BIA) is making available for public review the Final Environmental Impact Statement (FEIS) for the proposed conveyance of 125± acres of land that is currently held by the Cayuga Nation of New York in fee status into trust status. The uses of the properties, which include two convenience stores, would not change. The application includes two properties that have been used for Class II Indian gaming, operational at the time of the application, on one property in Seneca County and one property in Cayuga County. The Class II Indian gaming on the Cayuga Reservation would be expected to resume if the properties are placed into trust. The cooperating agencies for the proposal are the Cayuga Nation, Seneca County, Cayuga County and New York State Department of Environmental Conservation. The purpose of the proposed action is to create a tribal land base and to help meet the Nation's socio-economic needs.

DATES: The Record of Decision (ROD) on the proposed action will be issued no sooner than 30 days after the release of the FEIS. Thus, any comments on the FEIS must arrive by November 22, 2010.

ADDRESSES: You may mail, hand carry or telefax written comments to Franklin Keel, Regional Director, Eastern Regional Office, Bureau of Indian Affairs, 545 Marriott Drive, Suite 700, Nashville, Tennessee 37214, Telefax (615) 564-6701. Please see the SUPPLEMENTARY INFORMATION section of this notice for directions for submitting comments and locations where copies of the FEIS are available.

FOR FURTHER INFORMATION CONTACT: Kurt G. Chandler, (615) 564-6832.

SUPPLEMENTARY INFORMATION: The proposed alternatives are: (A) The Proposed Action (this is the action proposed by the Cayuga Indian Nation, to take all 125 +/− acres into trust); (B) No Action Alternative; and (C) Enterprise Properties into Trust (this alternative includes a single section of contiguous parcels in Seneca County and a single section of contiguous parcels in Cayuga County). Alternative C was proposed in order to analyze whether there were any specific impacts related to the contiguity of the parcels.

The Draft Environmental Impact Statement (DEIS), dated May 2009, has been revised in response to comments, and the revision is being issued as the FEIS for the purposes of compliance with the National Environmental Policy Act of 1969. The total acreage and number of parcels was reduced after the publication of the DEIS. The application originally consisted of seven parcels in four contiguous groups, listed under nine tax identification numbers. With the removal of a single 0.05 acre parcel from the application, three contiguous groups, listed under eight tax identification numbers, are currently under consideration for transfer into trust status. This revision is not considered significant, nor does the removal of the parcel from the application provide significant differences in impacts on the environment. Therefore, issuance of an additional DEIS for public review was not considered necessary.

Directions for Submitting Comments: Please include your name, return address and the caption, “FEIS Comments, Cayuga Indian Nation of New York Trust Acquisition Project,” on the first page of your written comments.

Public Availability of the FEIS: Copies of the FEIS will be available for viewing at the following locations during normal business hours:

• Lakeside Trading, 2552 Route 89, Seneca Falls, NY 13148

• Lakeside Trading, 299 Cayuga Street, Union Springs, NY 13160

• Seneca Falls Library, 47 Cayuga St., Seneca Falls, NY 13148

• Springport Free Library, 171 Cayuga St., P.O. Box 501, Union Springs, NY 13160

Public Comment Availability: Comments, including names and addresses of respondents, will be available for public review at the mailing address for the BIA Eastern Regional Office shown in the ADDRESSES section during regular business hours, 8 a.m. to 4:30 p.m. (unless otherwise shown), Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority: This notice is published in accordance with section 1503.1 of the Council on Environmental Quality regulations (40 CFR Parts 1500 through 1508) implementing the procedural requirements of the National Environmental Policy Act of 1969, as amended (42 U.S.C. 4321 et seq.), and the Department of Interior Manual (516 DM 1-6), and is in the exercise of authority delegated to the Assistant Secretary—Indian Affairs by 209 DM 8.1.

Dated: October 5, 2010.
Larry Echo Hawk,
Assistant Secretary—Indian Affairs.

[FR Doc. 2010-26222 Filed 10-21-10; 8:45 am]

BILLING CODE 4310-W7-P